DEPARTMENT OF THE INTERIOR

Bureau of Land Management

[16X.LLAZP01000.L14400000.EQ0000; AZA-035947]

Notice of Realty Action: Classification of Lands for Recreation and Public Purposes Act Lease for the Vulture Mountains Cooperative Recreation Management Area in Maricopa County, Arizona

AGENCY: Bureau of Land Management, Interior.

ACTION: Notice of realty action.

SUMMARY: The Bureau of Land Management (BLM) has examined and found suitable for classification for lease to the Maricopa County Parks and Recreation Department (MCPRD) under the provisions of the Recreation and Public Purposes (R&PP) Act, as amended (43 U.S.C. 869 et seq.), approximately 1,046.24 acres of public land in Maricopa County, Arizona. The MCPRD proposes to use the land for recreation purposes. Related improvements include picnic and camping facilities, restrooms, trailheads, developed day use facilities, and parking.

DATES: Interested parties may submit written comments regarding the proposed classification and lease of public lands on or before December 23, 2016.

ADDRESSES: Comments concerning this notice should be addressed to Rem Hawes, Field Manager, BLM Hassayampa Field Office, 21605 North 7th Ave., Phoenix, AZ 85027.

FOR FURTHER INFORMATION CONTACT: Hillary Conner, Realty Specialist, at the above address; phone 623-580-5649; or by email at hconner@blm.gov. Persons who use a telecommunications device for the deaf (TDD) may call the Federal Relay Service at 1-800-877-8339 to contact the above individual during normal business hours. The Service is available 24 hours a day, 7 days a week, to leave a message or question for the above individual. You will receive a reply during normal business hours.

SUPPLEMENTARY INFORMATION: The following described public lands in Maricopa County, Arizona, are being considered for an R&PP lease.

Gila and Salt River Meridian, Arizona

T. 6 N., R. 5 W.,

sec. 6, lot 8;

sec. 7, lot 1, W½NE¼, SE¼NE¼, NE¼SE¼, and E½NW¼;

sec. 30, lot 4;

sec. 31, lots 1, 2, and 4, and NE¼NW¼.

T. 6 N., R. 6 W.,

sec. 1, S½NW¼, SW¼, S½SE¼, and NW¼SE¼;

sec. 12, N½NE¼ and N½NW¼;

sec. 25, SE¼SE¼.

The areas described contain approximately 1,046 acres, more or less. The MCPRD proposes to use the above described lands for a variety of recreation facilities to be associated with the Vulture Mountains Cooperative Recreation Management Area. This is a cooperatively managed area between the BLM and MCPRD for public lands located south of Wickenburg, Arizona. Related improvements for the proposed lease include picnic and camping facilities, restrooms, trailheads, developed day use facilities, and parking.

Issuance of a lease is in conformance with the Bradshaw Harquahala Resource Management Plan, approved April 2010, through land use authorization decision LR-24, and is in the public's interest. The lands are not needed for any other Federal purpose and the lease will be analyzed in a site-specific environmental analysis.

Upon publication in the Federal Register, the lands described above will be segregated from all forms of appropriation under the public land laws, including the general mining laws, except for lease under the R&PP Act and leasing under the mineral leasing laws. Detailed information concerning this action is available for public review during normal business hours at the address above.

The lease, when issued, will be subject to the provisions of the R&PP Act and will contain the following terms, conditions, and reservations:

1. Provisions of the R&PP Act and all applicable regulations of the Secretary of the Interior.

2. All minerals shall be reserved to the United States, together with the right to prospect for, mine and remove such deposits from the same under applicable law and such regulations as the Secretary of the Interior may prescribe.

3. All valid existing rights.

4. An appropriate indemnification clause protecting the United States from claims arising out of the lessee's use, occupancy, or operation of the property. It will also contain any other terms and conditions deemed necessary and appropriate by the Authorized Officer.

5. The lessee shall comply with and shall not violate any of the terms or provisions of Title VI of the Civil Rights Act of 1964 (78 Stat. 241), and requirements of the regulations, as modified or amended, of the Secretary of the Interior issued pursuant thereto (43 CFR part 17) for the period that the lands leased herein are used for the purpose for which the grant was made pursuant to the act cited above, or for another purpose involving the provision of similar services or benefits.

Classification Comments: Interested parties may submit comments on the suitability of the lands for a developed recreation area. Comments on the classification are restricted to whether the lands are physically suited for the proposal, whether the use will maximize the future use or uses of the lands, whether the use is consistent with local planning and zoning, or if the use is consistent with Federal and State programs.

Application Comments: Interested parties may submit comments regarding the specific uses proposed in the application and plans of development, whether the BLM followed proper administrative procedures in reaching the decision, or any other factor not directly related to the suitability of the lands for recreation purposes. Any adverse comments will be reviewed by the BLM State Director. In the absence of any adverse comments, the classification will become effective on January 9, 2017. The lands will not be offered for lease until after the classification becomes effective.

Before including your address, phone number, email address, or other personal identifying information in your comment, you should be aware that your entire comment (including your personal identifying information) may be made available to the public at any time. While you can ask in your comment to withhold your personal identifying information from public review, we cannot guarantee that we will be able to do so.

Authority: 43 CFR 2741.5.

Rem Hawes,
Field Manager.

[FR Doc. 2016-26942 Filed 11-7-16; 8:45 am]

BILLING CODE 4310-32-P